DEPARTMENT OF DEFENSE

Office of the Secretary

Charter Renewal of Department of Defense Federal Advisory Committees

AGENCY: Department of Defense.

ACTION: Renewal of Federal Advisory Committee.

SUMMARY: The Department of Defense (DoD) is publishing this notice to announce that it is renewing the charter for the Department of Defense Wage Committee (“the Committee”).

FOR FURTHER INFORMATION CONTACT: Jim Freeman, Advisory Committee Management Officer for the Department of Defense, 703-692-5952.

SUPPLEMENTARY INFORMATION: The Committee's charter is being renewed in accordance with the Federal Advisory Committee Act (FACA) of 1972 (5 U.S.C., Appendix, as amended) and 41 CFR 102-3.50(a). The Committee's charter and contact information for the Committee's Designated Federal Officer (DFO) can be found at http://www.facadatabase.gov/. The Committee provides the Secretary of Defense and the Deputy Secretary of Defense, through the Under Secretary of Defense for Personnel and Readiness, independent advice and recommendations on all matters relating to the conduct of wage surveys and the establishment of wage schedules for all appropriated fund and non-appropriated fund wage areas of blue-collar employees within the Department of Defense.

The Committee is composed of seven members—a chair and six additional members. The remaining six positions consist of two labor organization representatives and four members who are regular government employees (RGE) and are divided into two broad categories—labor and management. Each category has two voting members; in the case of management category, the two voting members will change depending upon which two DoD Components, as determined by the Chair, have the largest number of wage employees in the wage areas under consideration. Those individuals representing the labor organizations are selected by the labor organizations to provide the committee with the points of view of nongovernment entities or a recognizable group of persons that have interests in the subject matter under consideration by the Committee. Whereas, those individuals, to include the Chair, who represent the DoD Components, and are RGE members are appointed by the Secretary of Defense to exercise their own individual best judgement on behalf of the government. Except for reimbursement of official Committee-related travel and per diem, Committee members serve without compensation.

The public or interested organizations may submit written statements to the Committee membership about the Committee's mission and functions. Written statements may be submitted at any time or in response to the stated agenda of planned meeting of the Committee. All written statements shall be submitted to the DFO for the Committee, and this individual will ensure that the written statements are provided to the membership for their consideration.

Dated: November 1, 2016.
Aaron Siegel,
Alternate OSD Federal Register Liaison Officer, Department of Defense.

[FR Doc. 2016-26665 Filed 11-3-16; 8:45 am]

BILLING CODE 5001-06-P